DEPARTMENT OF TRANSPORTATION

Federal Aviation Administration

14 CFR Part 39

[Docket No. FAA-2024-2420; Project Identifier MCAI-2024-00143-T; Amendment 39-22978; AD 2025-05-06]

RIN 2120-AA64

Airworthiness Directives; De Havilland Aircraft of Canada Limited (Type Certificate Previously Held by Bombardier, Inc.) Airplanes

Correction

In rule document, 2025-03880, appearing on pages 11800 through 11802, in the issue of Wednesday, March 12, 2025, make the following correction:

On page 11800, in the second column, under the heading DATES, in the first and second lines, “April 18, 3036” should read“April 16, 2025”.

On page 11801, in the third column, on the twentieth line from the bottom of the page, Section 39.13 is corrected as set forth below.

* * * * *

§ 39.13 [Corrected]

* * * * *

(a) Effective Date

This airworthiness directive (AD) is effective April 16, 2025.

* * * * *

[FR Doc. C1-2025-03880 Filed 3-13-25; 5:15 pm]

BILLING CODE 0099-10-D